DEPARTMENT OF LABOR

Office of the Secretary

Submission for OMB Review: Comment Request

November 24, 2009.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Department of Labor—Employee Benefits Security Administration (EBSA), Office of Management and Budget, Room 10235, Washington, DC 20503, Telephone: 202-395-7316/Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employee Benefits Security Administration.

Type of Review: Extension without change of a currently approved collection.

Title of Collection: Notice of Special Enrollment Rights under Group Health Plans.

OMB Control Number: 1210-0101.

Affected Public: Private sector.

Estimated Number of Respondents: 2,757,800.

Total Estimated Annual Burden Hours: 0.

Total Estimated Annual Costs Burden (excludes hourly wage costs): $94,917.

Description: Under 29 CFR 2590.701-6(c), a group health plan must provide an individual who is offered coverage under the plan a notice describing the plan's special enrollment rights at or before the time coverage is offered. The Departments of Labor and Health and Human Services believe that the special enrollment notice is necessary to ensure that employees understand their enrollment options and will be able to exercise their rights during any 30-day enrollment period following a special enrollment event. The final regulations provide detailed sample language describing special enrollment rights for use in the notice. The sample language is expected to reduce costs for group health plans since it eliminates the need for plans to develop their own language. For additional information, see related notice published in the Federal Register on September 25, 2009 (Vol. 74, page 49021).

Agency: Employee Benefits Security Administration.

Type of Review: Extension without change of a currently approved collection.

Title of Collection: Notice of Pre-Existing Condition Exclusion Under Group Health Plans.

OMB Control Number: 1210-0102.

Affected Public: Private sector.

Estimated Number of Respondents: 827,330.

Total Estimated Annual Burden Hours: 6,661.

Total Estimated Annual Costs Burden (excludes hourly wage costs): $1,319,664.

Description: Plans and issuers that impose preexisting condition exclusion periods must give employees eligible for coverage, as part of any enrollment application, a general notice that describes the plan's preexisting condition exclusion, including that the plan will reduce the maximum exclusion period by the length of an employee's prior creditable coverage. If there are no such enrollment materials, the notice must be provided as soon after a request for enrollment as is reasonably possible. The final regulation includes sample language for the general notice. See 29 CFR 2590.701-3(c).

Plans that use the alternative method of crediting coverage provided in the regulations must disclose their use of that method at the time of enrollment and describe how it operates. They must also explain that a participant has a right to establish prior creditable coverage through a certificate or other means and to request a certificate of prior coverage from a prior plan or issuer. Finally, plans or issuers must offer to assist the participant in obtaining a certificate from prior plans or issuers, if necessary. See 29 CFR 2590.701-4(c)(4). For additional information, see related notice published in the Federal Register on September 25, 2009 (Vol. 74, page 49024).

Agency: Employee Benefits Security Administration.

Type of Review: Extension without change of a currently approved collection.

Title of Collection: Establishing Creditable Coverage under Group Health Plans.

OMB Control Number: 1210-0103.

Affected Public: Private sector.

Estimated Number of Respondents: 2,757,768.

Total Estimated Annual Burden Hours: 88,066.

Total Estimated Annual Costs Burden (excludes hourly wage costs): $13,830,615.

Description: This ICR covers an information collection requirement imposed under the regulations in connection with the alternative method of crediting coverage established by the regulations. The regulations permit a plan to adopt, as its method of crediting prior health coverage, provisions that impose different preexisting condition exclusion periods with respect to different categories of benefits, depending on prior coverage in that category. In such a case, the regulations require former plans to provide additional information upon request to new plans in order to establish an individual's length of prior creditable coverage within that category of benefits. For additional information, see related notice published in the Federal Register on September 25, 2009 (Vol. 74, page 49024).

Darrin A. King,
Departmental Clearance Officer.

[FR Doc. E9-28629 Filed 11-30-09; 8:45 am]

BILLING CODE 4510-29-P